DEPARTMENT OF THE INTERIOR

Bureau of Land Management

[LLWY910000.L16100000.XX0000]

Notice of Public Meeting; Wyoming Resource Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) Wyoming Resource Advisory Council (RAC) will meet as indicated below.

DATES: The meeting is scheduled for, Wednesday, Aug. 19, 2015, from 8 a.m. to 4 p.m.

ADDRESSES: The meeting will be conducted by teleconference, which the public may attend the call in person at the Wyoming State Office, 5353 Yellowstone Road, Cheyenne, Wyoming.

FOR FURTHER INFORMATION CONTACT: Christian Venhuizen, Wyoming Resource Advisory Council Coordinator, Wyoming State Office, 5353 Yellowstone Road, Cheyenne, WY 82009; telephone 307-775-6103; email cvenhuizen@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This 10-member RAC advises the Secretary of the Interior on a variety of management issues associated with public land management in Wyoming. Planned agenda topics include discussions on the Greater Sage-Grouse and follow-up to previous RAC meetings. On Wednesday, Aug. 19, the meeting will begin at 8 a.m., in the Wyoming State Office's first floor conference room and adjourn for lunch at noon. The meeting will resume with a public comment period at 1 p.m. in the conference room. Depending on the number of persons wishing to comment and time available, the time for individual oral comments may be limited. If there are no members of the public interested in speaking, the meeting will move promptly to the next agenda item. The public may also submit written comments to the RAC by emailing cvenhuizen@blm.gov, with the subject line “RAC Public Comment” or by submitting comments during the meeting, at the Wyoming State Office, to the RAC coordinator. Typed or written comments will be provided to RAC members as part of the meeting's minutes.

Dated: July 14, 2015.
Mary Jo Rugwell,
Acting State Director.

[FR Doc. 2015-17802 Filed 8-3-15; 8:45 am]

BILLING CODE 4310-22-P